DEPARTMENT OF HEALTH AND HUMAN SERVICES

National Institutes of Health

Office of the Director; Notice of Meeting

Pursuant to section 1009 of the Federal Advisory Committee Act, as amended, notice is hereby given of the following meeting.

This will be a hybrid meeting held in-person and virtually and will be open to the public as indicated below. Given the capacity constraints of the venue, the public is strongly encouraged to attend virtually via NIH videocast. Interested individuals should pre-register at https://cvent.me/vxOKqy to attend this meeting. Individuals who need special assistance, such as sign language interpretation or other reasonable accommodations, should notify the Contact Person listed below in advance of the meeting. The meeting can be accessed from the NIH Videocasting website (http://videocast.nih.gov/).

Name of Committee: Scientific Management Review Board.

Date: November 12, 2024.

Time: 11:15 a.m. to 5:30 p.m.

Agenda: Overview of NIH's mission, structure, and budget and summary of SMRB's history and future directions.

Address: National Institutes of Health, Building 31, 6C Room F & G, 31 Center Drive, Bethesda, MD 20894.

Meeting Format: Hybrid Meeting.

Contact Person: Tyrone Spady, Ph.D., Acting Senior Advisor to the NIH Deputy Director, Office of the Director, One Center Drive, Building 1, Room 108, Bethesda, MD 20892, (301) 496-2433, smrb@nih.gov.

Any interested person may file written comments with the committee by forwarding the statement to the Contact Person listed on this notice. The statement should include the name, address, telephone number and when applicable, the business or professional affiliation of the interested person.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

The draft meeting agenda and other information about the SMRB, including information about access to the webcast, will be available prior to the meeting at http://smrb.od.nih.gov.

(Catalogue of Federal Domestic Assistance Program Numbers: 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS.)

Dated: October 15, 2024.
Lauren A. Fleck,
Program Analyst, Office of Federal Advisory Committee Policy.

[FR Doc. 2024-24125 Filed 10-17-24; 8:45 am]

BILLING CODE 4140-01-P